DEPARTMENT OF ENERGY

Federal Energy Regulatory Commission

[Docket Nos. ER02-1656-000 and ER02-1656-026]

California Independent System Operator Corporation; Notice of Deadlines for Comments and Reply Comments

September 23, 2005.

On September 13, 2005, Federal Energy Regulatory Commission staff convened a technical conference to explore tariff issues related to demand response options, including special case nodal pricing and the establishment of zones for wholesale customers, in accordance with the directive of the July 1, 2005 Order on Further Amendments to the California Independent System Operator's Comprehensive Market Redesign Proposal.¹ As stated at the technical conference, comments concerning the issues discussed at the technical conference are due on September 27, 2005, and reply comments are due on October 4, 2005.

¹ California Independent System Operator, Inc., 112 FERC ¶ 61,013 at P 39 (2005).

Magalie R. Salas,
Secretary.

[FR Doc. E5-5370 Filed 9-30-05; 8:45 am]

BILLING CODE 6717-01-P